ENVIRONMENTAL PROTECTION AGENCY

40 CFR Part 52

[Docket No. EPA-R02-OAR-2010-0872; FRL-9225-8]

Adequacy Status of the Submitted 2009 PM2.5 Motor Vehicle Emission Budgets for Transportation Conformity Purposes for the New York Portions of New York-Northern New Jersey-Long Island, NY-NJ-CT PM2.5 Nonattainment Area; New York

AGENCY: Environmental Protection Agency (EPA).

ACTION: Finding of adequacy.

SUMMARY: In this document, EPA is notifying the public that it has found the motor vehicle emissions budgets for PM2.5 and NOX in the submitted attainment demonstration state implementation plans for the New York portion of the New York-Northern New Jersey-Long Island, NY-NJ-CT PM2.5 nonattainment area to be adequate for transportation conformity purposes. The transportation conformity rule requires that the EPA conduct a public process and make an affirmative decision on the adequacy of budgets before they can be used by metropolitan planning organizations in conformity determinations. As a result of our finding, the New York Metropolitan Transportation Council (excluding Putnam County) and the Orange County Transportation Council must use the new 2009 PM2.5 budgets for future transportation conformity determinations.

DATES: This finding is effective December 1, 2010.

FOR FURTHER INFORMATION CONTACT: Melanie Zeman, Air Programs Branch, Environmental Protection Agency—Region 2, 290 Broadway, 25th Floor, New York, New York 10007-1866, (212) 637-4022, zeman.melanie@epa.gov.

The finding and the response to comments will be available at EPA's conformity Web site: http://www.epa.gov/otaq/stateresources/transconf/adequacy.htm.

SUPPLEMENTARY INFORMATION:

Background

On October 27, 2009, the State of New York submitted an attainment demonstration state implementation plan to EPA for the New York portion of the New York-Northern New Jersey-Long Island, NY-NJ-CT PM2.5 nonattainment area. The purpose of New York State's submittal was to demonstrate the State's progress toward attaining the 1997 PM2.5 National Ambient Air Quality Standard (62 FR 38652, July 18, 1997). New York State's submittal included motor vehicle emissions budgets (“budgets”) for 2009 for use by the State's metropolitan planning organizations in making transportation conformity determinations. On January 19, 2010, EPA posted the availability of the budgets on our Web site for the purpose of soliciting public comments. The comment period closed on February 18, 2010, and we received no comments.

Today's notice is simply an announcement of a finding that we have already made. EPA Region 2 sent a letter to New York State on October 15, 2010, stating that the 2009 motor vehicle emissions budgets in New York's SIP for the New York portion of the New York-Northern New Jersey-Long Island, NY-NJ-CT PM2.5 nonattainment area are adequate because they are consistent with the required attainment demonstration.

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination. The motor vehicle emissions budgets being found adequate today are listed in Table 1. EPA's finding will also be announced on EPA's conformity Web site: http://www.epa.gov/otaq/stateresources/transconf/adequacy.htm.

Table 1—2009 Attainment PM2.5 Motor Vehicle Emissions Budgets for New York
[Tons per year]
Metropolitan Planning Organization | PM2.5 | NOX
NYMTC (excluding Putnam County) and OCTC | 1,750 | 77,571

List of Subjects in 40 CFR Part 52

Environmental protection, Air pollution control, Incorporation by reference, Intergovernmental relations, Nitrogen dioxide, Particulate matter, Reporting and record keeping requirements.

Authority: 42 U.S.C. 7401-7671q.

Dated: October 29, 2010.
Judith A. Enck,
Regional Administrator, Region 2.

[FR Doc. 2010-28658 Filed 11-15-10; 8:45 am]

BILLING CODE 6560-50-P